DEPARTMENT OF VETERANS AFFAIRS

Special Medical Advisory Group; Notice of Meeting

The Department of Veterans Affairs (VA) gives notice under the Federal Advisory Committee Act, 5 U.S.C. App.2, that a meeting of the Special Medical Advisory Group (the Committee) will be held on Wednesday, September 9, 2020 from 9:30a.m. EDT to 2:30pm. EDT. The meeting is open to the public, the public will only be able to attend virtually, members may join in-person or virtually.

Join by phone: 404.397.1596 Access Code: 1999272338#

Join via Webex (please contact POC below for assistance connecting): https://veteransaffairs.webex.com/veteransaffairs/j.php?MTID=md4560dd7a25a43364da73e96187980cf.

The purpose of the Committee is to advise the Secretary of Veterans Affairs and the Under Secretary for Health on the care and treatment of Veterans, and other matters pertinent to the Veterans Health Administration (VHA).

The agenda for the meeting will include discussions regarding the pandemic response, challenges and future health care considerations, precision oncology expansion strategy and geriatrics health care future strategy.

Although no time will be allocated for receiving oral presentations from the public, members of the public may submit written statements for review by the Committee to: Ms. Brenda R. Faas, Designated Federal Officer, Veterans Health Administration (10B), 810 Vermont Avenue NW, Washington, DC 20420 or by email at VASMAGDFO@va.gov. Comments will be accepted until close of business on Friday, September 4, 2020. In the communication, the writers must identify themselves and state the organization, association of person(s) they represent.

Any member of the public wishing to attend the meeting or seeking additional information should email VASMAGDFO@va.gov or call 202-461-7005, no later than close of business on Friday, September 4, 2020.

Dated: August 21, 2020.
LaTonya L. Small,
Federal Advisory Committee Management Officer.

[FR Doc. 2020-18814 Filed 8-26-20; 8:45 am]

BILLING CODE P